DEPARTMENT OF HOUSING AND URBAN DEVELOPMENT

[Docket No. FR-4821-N-03]

Ginnie Mae Mortgage-Backed Securities Guide 5550.3, Revision 1 (Forms and Electronic Data Submissions); Notice of Proposed Information Collection: Comment Request

AGENCY: Office of the President of Government National Mortgage Association (Ginnie Mae), HUD.

ACTION: Notice.

SUMMARY: The proposed information collection requirement described below will be submitted to the Office of Management and Budget (OMB) for review, as required by the Paperwork Reduction Act. The Department is soliciting public comments on the subject proposal.

DATES: Comment Due Date: October 24, 2003.

ADDRESSES: Interested persons are invited to submit comments regarding this proposal. Comments should refer to the proposal by name and/or OMB Control Number and should be sent to:

Sonya Suarez, Office of Program Operations, Department of Housing & Urban Development, 451-7th Street, SW, Room 6206, Washington, DC 20410.

FOR FURTHER INFORMATION CONTACT: Sonya Suarez, Ginnie Mae, (202) 708-2884 (this is not a toll-free number) for copies of the proposed forms and other available documents.

SUPPLEMENTARY INFORMATION: The Department will submit the proposed information collection to OMB for review, as required by the Paperwork Reduction Act of 1995 (44 U.S.C. Chapter 35, as amended).

The Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology, e.g., permitting electronic submission of responses.

This Notice also lists the following information:

Title of Proposal: Ginnie Mae Mortgage-Backed Securities Guide 5500.3, Revision 1 (Forms and Electronic Data Submissions).

OMB Control Number, if applicable: New Approval Number.

Description of the need for the information proposed use: Ginnie Mae's Mortgage-Backed Securities Guide 5500.3, Revision 1 (“Guide”) provides instructions and guidance to participants in the Ginnie Mae Mortgage-Backed Securities (“MBS”) programs “Ginnie Mae I and Ginnie Mae II”). Participants in the Ginnie Mae I program issue securities backed by single-family or multifamily loans. Participants in the Ginnie Mae II program issue securities backed by single-family loans. The Ginnie Mae II MBS are modified pass-through MBS on which registered holders receive an aggregate principal and interest payment from a central paying agent on all of their Ginnie Mae II MBS. The Ginnie Mae II MBS also allow small issuers who do not meet the minimum dollar pool requirements of the Ginnie Mae I MBS to participate in the secondary mortgage market. In addition, the Ginnie Mae II MBS permit the securitization of adjustable rate mortgages (“ARMs”). Any requirement in a document created under a Ginnie Mae MBS program is effective as of the date of the Guide, including amendments. Included in the Guide are Appendices. The Appendices include the forms or documents needed to comply with program requirements.

Agency form numbers, if applicable: 11700, 11702, 11704, 11707, 11710 A-E, 11714, 11714SN, 11705, 11706, 11708, 11709, 11709A, 11715, 11720, 11712-I, 11712-II, 11717, 11717-II, 1724, 11728, 11728-II, 1731, 1734, 11747, 11747-II and 11772-II, 11732, 11711A, 11711B, 11748C, and 11748A.

Members of affected public: For-profit business (mortgage companies, thrifts, savings & loans, etc.).

Estimation of the Total Number of Hours Needed To Prepare the Information Collection, Including Number of Respondents, Frequency of Response, and Hours of Response
Form | Title | No. of respondents | Frequency of responses per year | Total annual responses | Hours per response | Total annual hours
11700 | Letter of Transmittal | 300 | 4 | 1,200 | 0.17 | 204
11702 | Resolution of Board of Directors and Certificate of Authorized Signatures | 300 | 1 | 300 | 0.17 | 51
11704 | Commitment to Guaranty Mortgage-Backed Securities | 300 | 4 | 1,200 | 0.25 | 300
11705 | Schedule of Subscribers and Ginnie Mae Guaranty Agreement | 300 | 91.4 | 27,442 | 0.0166 | 456
11706 | Schedule of Pooled Mortgages | 300 | 91.4 | 27,442 | 0.0166 | 456
11707 | Master Servicing Agreement | 300 | 1 | 300 | 0.17 | 51
11708 | Document Release Request | 300 | 10 | 3,000 | 0.2 | 600
11709 | Master Agreement for Servicer's Principal and Interest Custodial Account | 30 | 1 | 300 | 0.03 | 9
11715 | Master Custodial Agreement | 300 | 1 | 30 | 0.25 | 75
11720 | Master Agreement for Servicer's Escrow Custodial Account | 300 | 1 | 300 | 0.2 | 60
11732 | Custodian's Certification for Construction Securities | 250 | 1 | 250 | 0.0166 | 4
11709-A | ACH Debit Authorization | 300 | 1 | 300 | 0.25 | 75
11710, A, B, C, and E | Issuer's Monthly Accounting Reports | 300 | 17,513.57 | 5,254,071 | 0.0166 | 87,218
11710 D | Issuer's Monthly Summary Reports | 300 | 16.88 | 5,064 | 0.0166 | 84
11711A and 11711B | Release of Security Interest and Certification and Agreement | 300 | 91.4 | 27,442 | 0.0166 | 456
11712-I, 11712-II, 11717, 11717-II, 1724, 11728, 11728-II, 1731, 1734, 11747, 11747-II and 11722-II | Ginnie Mae I and II Prospectus Forms | 300 | 91.4 | 27,442 | 0.25 | 6,861
11714 and 11714SN | Issuer's Monthly Remittance Advice and Issuer's Monthly Serial Note Remittance Advice | 300 | 886.8 | 266,040 | 0.0166 | 4,416
11714 A and C | Addendum to Monthly Accounting Report—Adjustable Rate Mortgage Loan Package and Graduated Payment Mortgage or Growing Equity Mortgage Pool or Loan Package Composition | 300 | 8 | 2,406 | 0.0166 | 40
| Monthly Loan Level Reporting | 300 | 12 | 3,600 | 4 | 14,400
| Financial Statements and Audit Reports | 300 | 1 | 300 | 1 | 300
| Mortgage Bankers Financial Reporting Form | 278 | 4 | 1,112 | 0.5 | 556
| Soldiers' and Sailors' Quarterly Reimbursement Request and SSCRA Loan Eligibility Information | 173 | 162 | 28,026 | 0.034 | 953
| Form Letter for Loan Repurchase | 1,000 | 1 | 1,000 | 0.25 | 250
| Certification Requirements for the Pooling of Multifamily Mature Loan Program | 14 | 1 | 14 | 0.0166 | 0
| Request for Reimbursement of Mortgage Insurance Claim Costs | 60 | 1 | 60 | 0.25 | 15
| Collection of Remaining Principal Balances | 300 | 12 | 3,600 | 91.4 | 27,442
| Data Verification Form | 300 | 2 | 600 | 0.08 | 48
| Electronic Data Interchange System Agreement | 300 | 1 | 300 | 0.25 | 75
| Enrollment Administrator Signatories for Issuers and Document Custodians | 300 | 1 | 300 | 0.25 | 75
| Corporate Agreement | 10 | 1 | 10 | 0.25 | 3
| Cross Default Agreement | 10 | 1 | 10 | 0.25 | 3
| Transfer Agreements and Assignment Agreements | 180 | 1 | 15 | 0.25 | 4
| Pool Advance Agreement | 10 | 1 | 10 | 0.25 | 3
| Excess Funds Agreement | 10 | 1 | 10 | 0.25 | 3
| Acknowledgement Agreement and Accompanying Documents—Pledge of Servicing | 10 | 1 | 10 | 0.25 | 3
| Supervisory agreement | 10 | 1 | 10 | 0.25 | 3
Total |  | 246 |  | 5,683,879 |  | 145,570

Calculations:

Total Annual Responses × Hours per Response = Total Annual Hours

Estimated Cost to Respondents:

1. Mortgage industry employee salary: $25.00 per hour

$25.00 × Total Annual Hours = Cost

Estimated Annual Cost to the Government:

1. Ginnie Mae employee salary: $29.00 per hour

$29.00 × Total Annual Hours = Cost

2. Contractor Expense is based on contract award

Status of the proposed information collection: New Collection.

Authority: Section 3506 of the Paperwork Reduction Act of 1995, 44 U.S.C. Chapter 35, as amended.

Dated: August 19, 2003.
George S. Anderson,
Executive Vice President, Ginnie Mae.

[FR Doc. 03-21635 Filed 8-22-03; 8:45 am]

BILLING CODE 4210-66-M